INTERNATIONAL TRADE COMMISSION

[Investigation No. 731-TA-1306 (Review)]

Large Residential Washers From China

Determination

On the basis of the record ¹ developed in the subject five-year review, the United States International Trade Commission (“Commission”) determines, pursuant to the Tariff Act of 1930 (“the Act”), that revocation of the antidumping duty order on large residential washers from China would be likely to lead to continuation or recurrence of material injury to an industry in the United States within a reasonably foreseeable time.

¹ The record is defined in § 207.2(f) of the Commission's Rules of Practice and Procedure (19 CFR 207.2(f)).

Background

The Commission instituted this review on January 3, 2022 (87 FR 115, January 3, 2022) and determined on April 8, 2022, that it would conduct an expedited review (87 FR 38780, June 29, 2022).

The Commission made this determination pursuant to section 751(c) of the Act (19 U.S.C. 1675(c)). It completed and filed its determination in this review on August 16, 2022. The views of the Commission are contained in USITC Publication 5343 (August 2022), entitled Large Residential Washers from China: Investigation No. 731-TA-1306 (Review).

By order of the Commission.
Issued: August 16, 2022.
William Bishop,
Supervisory Hearings and Information Officer.

[FR Doc. 2022-17974 Filed 8-19-22; 8:45 am]

BILLING CODE 7020-02-P